COMMISSION ON CIVIL RIGHTS

Agenda and Notice of Public Meeting of the Tennessee Advisory Committee

Notice is hereby given, pursuant to the provisions of the rules and regulations of the U.S. Commission on Civil Rights (Commission) and the Federal Advisory Committee Act (FACA), that a meeting of the Tennessee Advisory Committee to the Commission (Committee) will convene at 1:30 p.m. and adjourn at about 3 p.m. on Monday, August 24, 2009, at the Disabled Student Services Center, Keathley University Center, Middle Tennessee State University, Tennessee, 37132. The purpose of the meeting is for the Committee to plan future projects for fiscal year 2010.

Members of the public are entitled to submit written comments. The comments must be received in the regional office by September 24, 2009. The mailing address is: Southern Regional Office, U.S. Commission on Civil Rights, 61 Forsyth St., SW., Suite 18T40, Atlanta, GA 30303. Persons wishing to e-mail their written comments may do so to pminari@usccr.gov. Persons who desire additional information should contact the Southern Regional Office, at (404) 562-7000, or by e-mail at pminarik@usccr.gov.

Hearing-impaired persons who will attend the meetings and require the services of a sign language interpreter should contact the Regional Office at least ten (10) working days before the scheduled date of the meeting.

Records generated from these meetings may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA.

Dated in Washington, DC, July 27, 2009.
Peter Minarik,
Acting Chief, Regional Programs Coordination Unit.

[FR Doc. E9-18207 Filed 7-29-09; 8:45 am]

BILLING CODE 6335-01-P